GENERAL SERVICES ADMINISTRATION

[Notice-MG-2020-06; Docket No. 2020-0002; Sequence No. 34]

Office of Federal High-Performance Buildings; Green Building Advisory Committee; Notification of Upcoming Web-based Meetings

AGENCY: Office of Government-Wide Policy, General Services Administration (GSA).

ACTION: Meeting notice.

SUMMARY: Notice of these Web-based meetings/conference calls is being provided according to the requirements of the Federal Advisory Committee Act. This notice provides the schedule for a series of Web-based meetings for two task groups of the Committee, which are open for the public to listen in. Interested individuals must register to attend as instructed below under Supplementary Information.

DATES: The Energy Storage Task Group will hold recurring Web-based meetings on Thursdays from October 8, 2020, through May 27, 2021, from 3:00 p.m. to 4:00 p.m., Eastern Time (ET).

The Sustainable Response to COVID-19 Task Group will hold recurring Web-based meetings on Tuesdays from October 6, 2020, through February 2, 2021, from 2:00 p.m. to 3:00 p.m., ET.

FOR FURTHER INFORMATION CONTACT: Mr. Ken Sandler, Designated Federal Officer, Office of Federal High-Performance Buildings, Office of Government-wide Policy, General Services Administration, 1800 F Street NW, (Mail-code: MG), Washington, DC 20405, at ken.sandler@gsa.gov or 202-219-1121. Additional information about the Committee, including meeting materials and agendas, will be available on-line at http://www.gsa.gov/gbac.

SUPPLEMENTARY INFORMATION:

Procedures for Attendance and Public Comment

Contact Mr. Ken Sandler at ken.sandler@gsa.gov to register to attend the in-person meeting or listen to any of these Web-based meetings. To attend any of these events, submit your full name, organization, email address, and phone number, and which you would like to attend. Requests to attend the Web-based meetings must be received by 5:00 p.m. ET, on Wednesday, September 30, 2020. (GSA will be unable to provide technical assistance to any listener experiencing technical difficulties. Testing access to the Web-based meeting site before the calls is recommended.)

Background

The Administrator of GSA established the Committee on June 20, 2011 (Federal Register/Vol. 76, No. 118) pursuant to Section 494 of the Energy Independence and Security Act of 2007 (EISA, 42 U.S.C. 17123). Under this authority, the Committee provides independent policy advice and recommendations to GSA to advance federal building innovations in planning, design, and operations to reduce costs, enable agency missions, enhance human health and performance, and minimize environmental impacts.

The Energy Storage Task Group will explore the use of energy storage at federal facilities, and how it may be employed to reduce energy use and greenhouse gas emissions, including in conjunction with renewable energy and grid integration strategies.

The Sustainable Response to COVID-19 Task Group will analyze potential impacts on federal facility sustainability, including occupant health and wellness, related to the potential implementation of COVID-19 mitigation measures and operational practices.

The Web-based meetings will allow the task groups to develop consensus recommendations to the full Committee, which will, in turn, decide whether to proceed with formal advice to GSA based upon these recommendations.

Kevin Kampschroer,
Federal Director, Office of Federal High-Performance Buildings, General Services Administration.

[FR Doc. 2020-21328 Filed 9-25-20; 8:45 am]

BILLING CODE 6820-14-P